DEPARTMENT OF ENERGY

Federal Energy Regulatory Commission

Combined Notice of Filings

Take notice that the Commission has received the following Natural Gas Pipeline Rate and Refund Report filings:

Filings Instituting Proceedings

Docket Numbers: RP13-702-000.

Applicants: Egan Hub Storage, LLC.

Description: Termination of Contract 310527 to be effective 4/25/2013.

Filed Date: 3/25/13.

Accession Number: 20130325-5038.

Comments Due: 5 p.m. ET 4/8/13.

Docket Numbers: RP13-703-000.

Applicants: Bison Pipeline LLC.

Description: Bison Pipeline LLC Company Use Gas Annual Report.

Filed Date: 3/25/13.

Accession Number: 20130325-5052.

Comments Due: 5 p.m. ET 4/8/13.

Docket Numbers: RP13-704-000.

Applicants: Natural Gas Pipeline Company of America.

Description: Renaissance Trading Negotiated Rate to be effective 4/1/2013.

Filed Date: 3/25/13.

Accession Number: 20130325-5071.

Comments Due: 5 p.m. ET 4/8/13.

Docket Numbers: RP13-705-000.

Applicants: Natural Gas Pipeline Company of America.

Description: Negotiated Rate—EDF to be effective 4/1/2013.

Filed Date: 3/25/13.

Accession Number: 20130325-5073.

Comments Due: 5 p.m. ET 4/8/13.

Docket Numbers: RP13-706-000.

Applicants: Kern River Gas Transmission Company

Description: 2013 Automation of IT Contracts to be effective 4/25/2013.

Filed Date: 3/25/13.

Accession Number: 20130325-5114.

Comments Due: 5 p.m. ET 4/8/13.

Docket Numbers: RP13-707-000.

Applicants: Dominion Transmission, Inc.

Description: DTI—March 25, 2013 Negotiated Rate Agreements to be effective 3/26/2013.

Filed Date: 3/25/13.

Accession Number: 20130325-5135.

Comments Due: 5 p.m. ET 4/8/13.

Docket Numbers: RP13-708-000.

Applicants: Iroquois Gas Transmission System, L.P.

Description: 03/25/13 Negotiated Rates—BG Energy Merchants, LLC (HUB) 6040-89 to be effective 4/15/2013.

Filed Date: 3/25/13.

Accession Number: 20130325-5145.

Comments Due: 5 p.m. ET 4/8/13.

Docket Numbers: RP13-709-000.

Applicants: Iroquois Gas Transmission System, L.P.

Description: 03/25/13 Negotiated Rates—JP Morgan Ventures Energy Corp. (HUB) 6025-89 to be effective 4/15/2013.

Filed Date: 3/25/13.

Accession Number: 20130325-5146.

Comments Due: 5 p.m. ET 4/8/13.

Docket Numbers: RP13-710-000.

Applicants: El Paso Natural Gas Company, L.L.C.

Description: Request for Waiver and Extension of Previous Waiver of El Paso Natural Gas Company, L.L.C.

Filed Date: 3/25/13.

Accession Number: 20130325-5187.

Comments Due: 5 p.m. ET 4/8/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: March 26, 2013.
Nathaniel J. Davis, Sr.,
Deputy Secretary.

[FR Doc. 2013-07490 Filed 3-29-13; 8:45 am]

BILLING CODE 6717-01-P